DEPARTMENT OF HEALTH AND HUMAN SERVICES

Agency for Healthcare Research and Quality

Agency Information Collection Activities: Proposed Collection; Comment Request

AGENCY: Agency for Healthcare Research and Quality, HHS.

ACTION: Notice.

SUMMARY: This notice announces the intention of the Agency for Healthcare Research and Quality (AHRQ) to request that the Office of Management and Budget (OMB) approve the proposed changes to the currently approved information collection project: “Medical Expenditure Panel Survey—Insurance Component.” In accordance with the Paperwork Reduction Act, 44 U.S.C. 3501-3521, AHRQ invites the public to comment on this proposed information collection.

DATES: Comments on this notice must be received by March 11, 2014.

ADDRESSES: Written comments should be submitted to: Doris Lefkowitz, Reports Clearance Officer, AHRQ, by email at doris.lefkowitz@AHRQ.hhs.gov.

Copies of the proposed collection plans, data collection instruments, and specific details on the estimated burden can be obtained from the AHRQ Reports Clearance Officer.

FOR FURTHER INFORMATION CONTACT: Doris Lefkowitz, AHRQ Reports Clearance Officer, (301) 427-1477, or by email at doris.lefkowitz@AHRQ.hhs.gov.

SUPPLEMENTARY INFORMATION:

Proposed Project

Medical Expenditure Panel Survey—Insurance Component

Employer-sponsored health insurance is the source of coverage for 85 million current and former workers, plus many of their family members, and is a cornerstone of the U.S. health care system. The Medical Expenditure Panel Survey—Insurance Component (MEPS-IC) measures the extent, cost, and coverage of employer-sponsored health insurance on an annual basis. Statistics are produced at the National, State, and sub-State (metropolitan area) level for private industry. Statistics are also produced for State and Local governments. The MEPS-IC was last approved by OMB on November 21st, 2013 and will expire on November 30th, 2016. The OMB control number for the MEPS-IC is 0935-0110. All of the supporting documents for the current MEPS-IC can be downloaded from OMB's Web site at http://www.reginfo.gov/public/do/PRAViewDocument?ref_nbr=201310-0935-001.

In order to ensure that the MEPS-IC is able to capture important changes in the employer-sponsored health insurance market due to the implementation of the Patient Protection and Affordable Care Act (PPACA), AHRQ researched and proposed revisions to the 2014 survey questionnaires based on the law's provisions. Many of these proposed revisions were related to the implementation of the Small Business Health Options Program (SHOP) exchanges/marketplaces that are available to small employers for purchasing health insurance beginning in 2014.

The proposed revisions were sent to a variety of federal and private stakeholders to obtain their suggestions and comments. These stakeholders included the U.S. Department of Health and Human Services' Assistant Secretary for Planning and Evaluation (ASPE), the Center for Medicare & Medicaid Services' (CMS) Center for Consumer Information and Insurance Oversight, the CMS Office of the Actuary, the National Center for Health Statistics, the President's Council of Economic Advisors, the Office of Management and Budget, the Bureau of Labor Statistics, the Employee Benefits Security Administration, the Bureau of the Census, and health insurance researchers at various universities and other not-for-profit organizations. These reviewers' comments were invaluable, and are reflected in the questions proposed herein.

In addition to the new questions recommended for 2014, several questions in the 2013 survey are proposed for deletion as part of the 2014 improvements. These deletions are necessary to minimize the burden on survey respondents and are limited to those questions with less analytic value, with poor response rates, or those that are no longer relevant due to changes made under PPACA.

Unlike for previous years' additions to the MEPS-IC questionnaires, the Bureau of the Census—which conducts and processes the survey for AHRQ—was not able to pretest the proposed 2014 questions. Many of the new questions relate to PPACA requirements or options (such as the SHOP marketplaces) which did not exist prior to the deadline for preparation of the 2014 questionnaires, so employers would not yet have made changes to their health insurance coverage that could be researched to help in the development of the new questions.

For all establishment-level MEPS-IC forms, AHRQ proposes to make the following changes. As noted below, some new questions only will be asked of private-sector establishments with certain firm sizes (defined by number of employees) or comparably-sized government units:

Additions:

< = 50 firm size only:

• Did you offer health insurance through a small business (SHOP) exchange or marketplace in your State? Yes/No/Don't Know

All firm sizes, except very large businesses:

• Last year, did your organization offer health insurance as a benefit to its employees at this location? Yes, offered in 2013/No, did not offer in 2013/Don't Know

All firm sizes:

• How many employees reported in Question 2a above worked less than 30 hours per week?

__ employees

Check box: No employees worked less than 30 hours

• Are employees' spouses eligible for health insurance coverage through your organization?

All spouses are eligible/Only spouses not eligible through their own employer/No spouses eligible/Don't Know

Deletions:

• Did your organization offer any health insurance as a benefit to its employees at this location between January 1, 2009 and December 31, 2013? Yes/No

• What was the last year your organization offered health insurance coverage to its employees at this location? Last year offered

• Did your organization offer health insurance to its temporary or seasonal employees at this location in 2014? Yes/No/Organization has no temporary or seasonal employees/Don't Know

For all plan-level MEPS-IC forms, AHRQ proposes to make the following changes. As noted below, some new questions only will be asked of private-sector establishments with certain firm sizes or comparably-sized government units:

Additions:

< = 50 firm size only:

• Health insurance plans are classified into different metal levels or tiers based on their level of benefits and cost-sharing provisions. Which level or tier was this plan in? Bronze/Silver/Gold/Platinum/Don't Know

> 50 firm size only:

• What is the actuarial value of this plan?

The actuarial value is the percentage of medical expenses paid by the plan, rather than out-of-pocket by a covered person.

__ %

Check box: Do not know actuarial value

All firm sizes:

• You reported the total premium for a typical employee for SINGLE coverage. Did this premium vary for individual employees depending on their ages? Yes/No/Don't Know

• Did the amount individual employees contributed toward their single coverage vary by any of these characteristics?

• Participation/achievement in fitness/weight loss program

○ Yes

○ No

○ Don't Know

• Participation/achievement in smoking cessation program

○ Yes

○ No

○ Don't Know

• Participation/achievement in wellness/health monitoring program

○ Yes

○ No

○ Don't Know

• Employee age

○ Yes: go to question below

○ No

○ Don't Know

• Other

○ Yes

○ No

○ Don't Know

• How did individual employees' contributions vary by age? Employer pays same percent of premium, and premiums vary by age/Employer pays the same dollar amount toward premium, and premiums vary by age/Other/Don't Know

• Did the total premium for FAMILY coverage vary depending on the number of family members covered by the plan? Yes/No/Don't Know

• How much and/or what percentage did an enrollee pay out-of-pocket for each type of prescription drug covered?

• Generic

○ $ _ Copay AND/OR _ % Coinsurance

• Preferred Brand Name

○ $ _ Copay AND/OR _ % Coinsurance

• Non-preferred Brand Name

○ $ _ Copay AND/OR _ % Coinsurance

Deletions:

• Did the PREMIUMS for this insurance plan vary by any of these characteristics?

Age/Gender/Wage or salary levels/Smoker/Non-smoker status/Other

• Did the amount an EMPLOYEE CONTRIBUTED toward his/her own coverage vary by any of these employee characteristics? Hours worked/Union status/Wage or salary levels/Occupation/Length of employment/Participation in a fitness/Weight loss program/Participation in a smoking cessation program/Other

• How much and/or what percentage did an enrollee pay out-of-pocket for the lowest tier of prescription drug coverage? $ copayment/% coinsurance

• Could this plan have refused to cover persons with pre-existing medical or health conditions?

Yes/No

• Did this plan have a policy requiring a waiting period before covering pre-existing conditions?

Yes/No

The MEPS Definitions form—MEPS-20(D)—will also be updated with new definitions for terms used in these new questions (and the deletion of terms used only in the deleted questions).

There are no changes to the 2014 MEPS-IC survey estimates of cost and hour burdens due to these proposed question changes. The response rate for the MEPS-IC survey also is not expected to change due to these proposed changes.

The MEPS-IC is conducted pursuant to AHRQ's statutory authority to conduct surveys to collect data on the cost, use and quality of health care, including the types and costs of private health insurance. 42 U.S.C. 299b-2(a).

Method of Collection

There are no changes to the current data collection methods.

Estimated Annual Respondent Burden

There are no changes to the current burden estimates.

Estimated Annual Costs to the Federal Government

There are no changes to the current cost estimates.

Request for Comments

In accordance with the Paperwork Reduction Act, comments on AHRQ's information collection are requested with regard to any of the following: (a) whether the proposed collection of information is necessary for the proper performance of AHRQ healthcare research and healthcare information dissemination functions, including whether the information will have practical utility; (b) the accuracy of AHRQ's estimate of burden (including hours and costs) of the proposed collection(s) of information; (c) ways to enhance the quality, utility, and clarity of the information to be collected; and (d) ways to minimize the burden of the collection of information upon the respondents, including the use of automated collection techniques or other forms of information technology.

Comments submitted in response to this notice will be summarized and included in the Agency's subsequent request for OMB approval of the proposed information collection. All comments will become a matter of public record.

Dated: December 23, 2013.
Richard Kronick,
Director.

[FR Doc. 2013-31480 Filed 1-9-14; 8:45 am]

BILLING CODE 4160-90-M